DEPARTMENT OF DEFENSE

Office of the Secretary

[Transmittal Nos. 15-09]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-09 with attached transmittal, policy justification, and Sensitivity of Technology.

Dated: February 25, 2015.
Aaron Siegel,
Alternate OSD Federal Register Liaison Officer, Department of Defense.

Transmittal No. 15-09

Notice of Proposed Issuance of Letter of Offer Pursuant to Section 36(b)(1) of the Arms Export Control Act, as amended

(i) Prospective Purchaser: Slovakia

(ii) Total Estimated Value:

Major Defense Equipment * | $250 million
Other | $200 million
Total | $450 million
* as defined in Section 47(6) of the Arms Export Control Act

(iii) Description and Quantity or Quantities of Articles or Services under Consideration for Purchase: Nine UH-60M Black Hawk Helicopters in standard U.S. Government configuration with designated unique equipment and Government Furnished Equipment (GFE); twenty T700-GE-701D Engines (18 installed and 2 spares); twenty Embedded Global Positioning Systems/Inertial Navigation Systems; two Aviation Mission Planning Systems; one Aviation Ground Power Unit; eleven AN/APX-123 Identification Friend or Foe Transponders; twenty Very High Frequency/Digitally Selective Calling AN/ARC-231 radios; eleven ARN-147 VHF Omni Ranging/Instrument Landing System (VOR/ILS); eleven AN/ARN-153 Tactical Air Navigation Systems; and eleven AN/ARC-201D Single Channel Ground and Airborne Radio Systems radios. Also included are aircraft warranty, ammunition, air worthiness support, facility construction, spare and repair parts, support equipment, communication equipment, publications and technical documentation, personnel training and training equipment, site surveys, tool and test equipment, U.S. Government and contractor technical and logistics support services, and other related element of program and logistics support.

(iv) Military Department: Army (UCI)

(v) Prior Related Cases, if any: None

(vi) Sales Commission, Fee, etc., Paid, Offered, or Agreed to be Paid: None

(vii) Sensitivity of Technology Contained in the Defense Article or Defense

Services Proposed to be Sold: See Attached Annex

(viii) Date Report Delivered to Congress: 18 February 2015

POLICY JUSTIFICATION

Slovakia—UH-60M Black Hawk Helicopters

The Government of Slovakia has requested a possible sale of nine UH-60M Black Hawk Helicopters in standard U.S. Government configuration with designated unique equipment and Government Furnished Equipment (GFE); twenty T700-GE-701D Engines (18 installed and 2 spares); twenty Embedded Global Positioning Systems/Inertial Navigation Systems; two Aviation Mission Planning Systems; one Aviation Ground Power Unit; eleven AN/APX-123 Identification Friend or Foe Transponders; twenty Very High Frequency (VHF)/Digitally Selective Calling AN/ARC-231 radios; eleven ARN-147 VHF Omni Ranging/Instrument Landing System (VOR/ILS); eleven AN/ARN-153 Tactical Air Navigation Systems; and eleven AN/ARC-201D Single Channel Ground and Airborne Radio Systems radios. Also included are aircraft warranty, ammunition, air worthiness support, facility construction, spare and repair parts, support equipment, communication equipment, publications and technical documentation, personnel training and training equipment, site surveys, tool and test equipment, U.S. Government and contractor technical and logistics support services, and other related element of program and logistics support. The estimated cost is $450 million.

This proposed sale will contribute to the foreign policy and national security of the United States by helping to improve the security of a NATO ally.

The proposed sale will improve Slovakia's capability to deter regional threats and strengthen its homeland defense, as well as support counter-terrorism operations. The sale of these UH-60 helicopters will bolster Slovakia's ability to provide border patrol, rapid reaction, and field expedient fire fighting capability for its air and ground forces in counter-terrorism, border security, and humanitarian operations. Slovakia will have no difficulty absorbing these helicopters into its armed forces.

The proposed sale of this equipment and support will not alter the basic military balance in the region.

The principal contractors will be the Sikorsky Aircraft Company in Stratford, Connecticut; and General Electric Aircraft Company in Lynn, Massachusetts. There are no known offset agreements in connection with this potential sale.

Implementation of this proposed sale may require the assignment of an additional three U.S. Government and five contractor representatives in Slovakia to support the delivery and training for approximately two-five years.

There will be no adverse impact on U.S. defense readiness as a result of this proposed sale.

Transmittal No. 15-09

Notice of Proposed Issuance of Letter of Offer Pursuant to Section 36(b)(1) of the Arms Export Control Act

Annex

Item No. vii

(vii) Sensitivity of Technology:

1. The UH-60M aircraft is a medium lift aircraft which is equipped with two T-701D Engines, and the integrated flight and management system, which provides aircraft system, flight, mission, and communication management systems. The cockpit includes five Multifunction Displays (MFDs), two General Purpose Processor Units (GPPUs), two Control Display Units (CDUs) and two Data Concentrator Units (DCUs). The Navigation System will have Embedded Global Positioning System (GPS)/Inertial Navigation System (INS) (EGIs), and two Digital Advanced Flight Control Systems (DAFCS).

2. The H764-G EGI unit provides GPS and INS capabilities to the aircraft. The EGI will include Selective Availability anti-Spoofing Module (SAASM) security modules to be used for secure GPS PPS if required.

3. If a technologically advanced adversary were to obtain knowledge of the specific hardware and software elements, the information could be used to develop countermeasures or equivalent systems which might reduce weapon system effectiveness or be used in the development of a system with similar or advanced capabilities.

4. A determination has been made that the recipient country can provide the same degree of protection for the sensitive technology being released as the U.S. Government. This sale is necessary in furtherance of the U.S. foreign policy and national security objectives outlined in the Policy Justification.

5. All defense articles and services listed in this transmittal have been authorized for release and export to the Government of Slovakia.

[FR Doc. 2015-04335 Filed 3-2-15; 8:45 am]

BILLING CODE 5001-06-P